ELECTION ASSISTANCE COMMISSION

Sunshine Act Meetings

AGENCY: Election Assistance Commission.

DATE AND TIME: Wednesday, February 18, 2015 at 10:00 a.m.

PLACE: 1335 East West Highway (First Floor Conference Room), Silver Spring, MD 20910.

STATUS: This meeting will be open to the public.

ITEMS TO BE DISCUSSED:

Selection of Chair and Vice-Chair

Accreditation Decision for Pro V&V

Briefing and Discussion of Voluntary Voting Systems Guidelines (VVSG 1.1)

Briefing and Discussion of Program Manuals

Discussion and Consideration of Roles and Responsibilities Document

AGENDA: Commissioners will meet to select a chair and vice-chair and to discuss the following items: Accreditation Decision for Pro V&V; Briefing and Discussion of Voluntary Voting Systems Guidelines (VVSG 1.1); Briefing and Discussion of Program Manuals; and Discussion and Consideration of Roles and Responsibilities Document.

PUBLIC COMMENTS: Members of the public who wish to speak at the meeting on proposed changes to the Voluntary Voting Systems Guidelines VVSG 1.1 may send a request to participate to the EAC no later than 5:00 p.m. EDT on Thursday, February 12, 2015. Due to time constraints, the EAC will select no more than 7 participants to speak. Each of those selected will be allotted 5 minutes. Participants will be selected on a first-come, first-served basis. However, to maximize diversity of input, only one participant per organization or entity will be chosen, if necessary. Participants will receive confirmation by 12:00 p.m. EDT on Thursday, February 13, 2015. Requests to speak may be sent to the EAC via email at testimony@eac.gov, via standard mail addressed to the U.S. Election Assistance Commission, 1335 East West Highway, Suite 4300, Silver Spring, MD 20910, or by fax at 301-734-3108. All requests must include a description of the topic to be discussed, contact information that will be used to notify the requestor with status of request (phone number or email); include on the subject/attention line or on the outside of the envelope if by standard mail: EAC Public Meeting.

PERSON TO CONTACT FOR INFORMATION: Bryan Whitener, Telephone: (301) 563-3961.

Submitted: February 4, 2015.
Signed: Bryan Whitener,
Director of Communications & Clearinghouse.

[FR Doc. 2015-02569 Filed 2-4-15; 4:15 pm]

BILLING CODE 6820-KF-P